DEPARTMENT OF EDUCATION

Applications for New Awards; Native Hawaiian Education Program; Correction

AGENCY: Office of Elementary and Secondary Education, Department of Education.

ACTION: Notice; correction.

SUMMARY: On March 14, 2023, the Department of Education (Department) published in the Federal Register a notice inviting applications (NIA) for new awards for fiscal year (FY) 2023 for the Native Hawaiian Education Program, Assistance Listing Number (ALN) 84.362A. We are correcting the deadline for transmittal of applications to May 15, 2023. All other information in the NIA remains the same.

DATES: This correction is applicable March 20, 2023.

FOR FURTHER INFORMATION CONTACT: Joanne Osborne, U.S. Department of Education, 400 Maryland Avenue SW, Room 3E306, Washington, DC 20202. Telephone: (202) 401-1265. Email: Hawaiian@ed.gov.

If you are deaf, hard of hearing, or have a speech disability and wish to access telecommunications relay services, please dial 7-1-1.

SUPPLEMENTARY INFORMATION: On March 14, 2023, we published the NIA in the Federal Register (88 FR 15689). In the NIA, we indicated that the deadline for transmittal of applications is April 13, 2023. However, we are correcting the deadline for transmittal of applications to May 15, 2023.

All other information in the NIA remains the same.

Correction:

In FR Doc. 2023-05120 appearing on page 15689 in the Federal Register published on March 14, 2023, we make the following correction:

On page 15689, under DATES in the middle column, we are revising the Deadline for Transmittal of Applications so that the date reads as follows: May 15, 2023.

Program Authority: Section 6205 of the ESEA (20 U.S.C. 7515); Consolidated Appropriations Act, 2023.

Accessible Format: On request to the contact person listed under FOR FURTHER INFORMATION CONTACT, individuals with disabilities can obtain this notice, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at this site.

You may also access documents of the Department published in the Federal Register by using the article search feature at www.federalregister.gov. Specifically, through the advanced search feature at this site, you can limit your search to documents published by the Department.

James F. Lane,
Senior Advisor, Office of the Secretary. Delegated the Authority to Perform the Functions and Duties of the Assistant Secretary Office of Elementary and Secondary Education.

[FR Doc. 2023-05763 Filed 3-17-23; 8:45 am]

BILLING CODE 4000-01-P